DEPARTMENT OF HOMELAND SECURITY

[Docket No. DHS-2023-0035]

Privacy Act of 1974 Matching Program

AGENCY: Department of Homeland Security, Federal Emergency Management Agency

ACTION: Notice of a new matching program.

SUMMARY: The Department of Homeland Security, Federal Emergency Management Agency (FEMA) and the United States Small Business Administration (SBA), pursuant to the Robert T. Stafford Disaster Relief and Emergency Assistance Act may not provide duplicative disaster assistance to individuals, businesses, including Private-Not-for Profits (PNPs), or other entities for the same disaster or emergency losses. DHS/FEMA and SBA will participate in a Computer Matching program to share federal records regarding financial/benefits award decisions of individuals, businesses, and/or other entities to verify eligibility for benefits, prevent duplicative aid from being provided in response to the same disaster or emergency, and recover aid when duplication of benefits is identified. This proposed Agreement re-establishes the Computer Matching program between DHS/FEMA and SBA that is set to expire on March 2, 2024.

DATES: This Agreement will take effect 30 days from the date copies of this signed Agreement are sent to both Houses of Congress and OMB, or thirty (30) days from the date the Computer Matching Notice is published in the Federal Register for public comment, at which time comments will be addressed. Additionally, depending on whether comments are received, this Agreement could yield a contrary determination (Commencement Date). DHS/FEMA is the agency that will: 1. Transmit this Agreement to Congress; 2. Notify OMB; 3. Publish the Computer Matching Notice in the Federal Register; and 4. Address public comments that may result from publication in the Federal Register.

ADDRESSES: You may submit comments on this proposed matching program, identified by docket number DHS-2023-0035 by one of the following methods:

• Federal e-Rulemaking Portal: http://www.regulations.gov. Follow the instructions for submitting comments.

• Fax: 202-343-4010.

• Mail: Mason Clutter, Chief Privacy Officer, Privacy Office, Department of Homeland Security, Washington, DC 20528-0655 or Sheri McConville, Director (Acting), Office of Performance and Systems Management, Office of Capital Access, U.S. Small Business Administration, 409 3rd Street SW, Washington, DC 20416.

Instructions: All submissions received must include the agency name and docket number DHS-2023-0035. All comments received will be posted without change to http://www.regulations.gov, including any personal information provided.

Docket: For access to the docket to read background documents or comments received, go to http://www.regulations.gov.

FOR FURTHER INFORMATION CONTACT: To obtain additional information about this matching program and the contents of this Computer Matching Agreement between DHS-FEMA and SBA, please view this Computer Matching Agreement at the following website: https://www.dhs.gov/publication/computer-matching-agreements-and-notices. For general questions about this matching program, contact Mason Clutter, (202) 343-1717, DHS Chief Privacy Officer, Department of Homeland Security, Washington, DC 20528-0655. For additional information from FEMA, contact Russell Bard (202-766-0582), Chief Privacy Officer, FEMA Privacy Branch, and Maile Arthur (202-577-6333), Deputy Director, Information Management Division, Federal Emergency Management Agency, Department of Homeland Security; and inquiries related to the Small Business Administration: Sheri McConville, Director (Acting), Office of Performance and Systems Management at (202) 401-4281 or SheriMcConville@sba,gov, Kelvin Moore, Chief Information Security Officer, Office of the Chief Information Officer at (202-921-6273) or kelvin.moore@sba.gov. For SBA privacy related inquiries LaWanda Burnette, Chief Privacy Officer, Office of the Chief Information Officer, Small Business Administration at (202-853-0851) or lawanda.burnette@sba.gov.

SUPPLEMENTARY INFORMATION: The Agreement between SBA and DHS/FEMA is expected to aid in the reduction of Duplication of Benefits (DOB) payments to survivors of major disaster declarations. This will be accomplished by matching specific FEMA disaster applicant data with SBA disaster loan application and decision data for a declared disaster, as set forth in the Agreement. Prior to the use of this computer match, SBA loan officers used stand-alone Personal Computers to access FEMA's computer system, National Emergency Management Information System-Individual Assistance (NEMIS-IA) and matched records manually. SBA and DHS/FEMA are dual source and recipient agencies in this matching program. DHS/FEMA provides this notice in accordance with the Privacy Act of 1974 (5 U.S.C. 552a), as amended by the Computer Matching and Privacy Protection Act of 1988 (Pub. L. 100-503) and the Computer Matching and Privacy Protection Amendments of 1990 (Pub. L. 101-508) (Privacy Act); Office of Management and Budget (OMB) Final Guidance Interpreting the Provisions of Pub. L. 100-503, the Computer Matching and Privacy Protection Act of 1988, 54 FR 25818 (June 19, 1989); and OMB Circular A-108, 81 FR 94424 (December 23, 2016). This proposed Agreement re-establishes the Computer Matching program between DHS/FEMA and SBA that is set to expire on March 2, 2024.

The notice for that agreement can be found here in the Federal Register: https://www.govinfo.gov/content/pkg/FR-2021-08-30/pdf/2021-18551.pdf. Furthermore, that current agreement, and future agreements, can be found on SBA's website: Privacy Act (sba.gov) and on DHS's website: Computer Matching Agreements and Notices | Homeland Security (dhs.gov).

PARTICIPATING AGENCIES:

DHS/FEMA and SBA.

AUTHORITY FOR CONDUCTING THE MATCHING PROGRAM:

Robert T. Stafford Disaster Relief and Emergency Assistance Act (Pub. L. 93-288), as amended at 42 U.S.C. 5121 et seq.

The Debt Collection Improvement Act of 1996, 31 U.S.C. 3325(d) and 7701(c)(1).

Section 121 of the Immigration Reform and Control Act (IRCA) of 1986, Pub. L. 99-603, as amended by the Personal Responsibility and Work Opportunity Reconciliation Act of 1996 (PRWORA), Pub. L. 104-193, 110 Stat. 2168 (1996), requires DHS to establish a system for the verification of immigration status of noncitizen applicants for, or recipients of, certain types of benefits as specified within IRCA, and to make this system available to state agencies that administer such benefits.

The Illegal Immigration Reform and Immigrant Responsibility Act of 1996 (IIRIRA), Pub. L. 104-208, 110 State. 3009 (1996) grants federal, state, or local government agencies seeking to verify or ascertain the citizenship or immigration status of any individual within the jurisdiction of the agency with the authority to request such information from DHS-U.S. Citizenship and Immigration Services for any purpose authorized by law.

PURPOSE:

DHS/FEMA and SBA may not provide duplicative disaster assistance to individuals, businesses, including Private-Not-for Profits (PNPs), or other entities for the same disaster or emergency losses. DHS/FEMA and SBA will participate in a Computer Matching program to share federal records related to financial/benefits award decisions of individuals, businesses, and/or other entities to verify eligibility for benefits, prevent duplicative aid from being provided in response to the same disaster or emergency, and recover aid when duplication of benefits is identified.

CATEGORIES OF INDIVIDUALS:

Individuals and households who apply for FEMA disaster assistance following a Presidentially declared major disaster or emergency.

CATEGORIES OF RECORDS:

The three types of match processes, for initial registration, duplication of benefits, and status updates, are described below.

1. DHS/FEMA—SBA Automated Import/Export Process for Initial Registrations:

a. SBA is the recipient (i.e., matching) agency. SBA will match records from its Disaster Loans Case Files system of records (SBA 20), applications and information accessed via the Disaster Lending System, to the records extracted and provided by DHS/FEMA from its DHS/FEMA Disaster Recovery Assistance Files system of records.

b. DHS/FEMA will provide SBA the data elements identified in the current NEMIS-IA Disaster Assistance Improvement Program (DAIP) Interface Control Document (ICD), which includes but is not limited to the following information: Applicant's personally identifiable information (PII), which includes: FEMA Registration ID Number, name, address, social security number, and date of birth; damaged property information; insurance policy data; property occupant data; vehicle registration data; and flood zone and flood insurance data.

c. SBA will conduct the match against the Disaster Loans Case Files system of records (SBA 20) via Disaster Lending System using the FEMA Disaster ID number, FEMA Registration ID number, Product (Home/Business), and Registration Occupant Social Security number (SSN) to create a New Pre-Application. The records SBA receives are of DHS/FEMA applicants who are referred to SBA for disaster loan assistance. Controls on the DHS/FEMA export of data are in place to ensure that SBA only receives unique and valid referral records.

d. When SBA matches its records to those provided by DHS/FEMA, two types of matches are possible: a full match and a partial match. A full match exists when an SBA record matches a DHS/FEMA record on each of the following data fields: FEMA Disaster ID number, FEMA Registration ID number, Product (Home/Business), and Registration Occupant SSN. A partial match exists when an SBA record matches a DHS/FEMA record on one or more, but not all data fields listed above. If an exact (full) match is found among SBA records for the current imported record, the current record is automatically marked as a duplicate by the system with appropriate comments inserted to indicate the corresponding record that matched. If a partial match is found during the import process, the record is routed for manual examination, investigation, and resolution to determine whether it is truly a duplicate record.

2. DHS/FEMA-SBA Duplication of Benefits Automated Match Process:

a. Both DHS/FEMA and SBA will act as the recipient (i.e., matching) agencies. SBA will extract and provide to DHS/FEMA data from its Disaster Loans Case Files system of records and accessed via the Disaster Lending System. DHS/FEMA will match the data SBA provides to records in its Disaster Recovery Assistance Files system of records, accessed through NEMIS-IA System, via the FEMA Registration ID number. SBA will issue a data call to DHS/FEMA requesting that DHS/FEMA return any records for which NEMIS-IA found a match. For each match found, DHS/FEMA sends all applicant information that it collects during the registration process to SBA so that SBA may match these records with its registrant data in the Disaster Lending System. SBA's Disaster Lending System manual process triggers an automated interface to query NEMIS-IA, using the FEMA Registration ID number as the unique identifier.

b. DHS/FEMA will return the following fields for the matching DHS/FEMA record, if any: FEMA Disaster Number; FEMA Registration ID number; applicant and if applicable, co-applicant name; damaged dwelling address; phone number; SSN; damaged property data; insurance policy information; contact address (if different from damaged dwelling address); flood zone and flood insurance data; FEMA Housing Assistance and Other Needs Assistance data; program, award level, eligibility, inspection data; verification of ownership and occupancy; and approval or rejection data. DHS/FEMA will return no result when the FEMA Registration ID number is not matched.

c. For each matching record received from DHS/FEMA, SBA determines whether DHS/FEMA assistance duplicates SBA loan assistance. If SBA loan officers determine that there is a duplication of benefits, the duplicated amount is deducted from the eligible SBA loan amount.

3. DHS/FEMA-SBA Status Update Automated Match Process:

a. DHS/FEMA will act as the recipient (i.e., matching) agency. DHS/FEMA will match records from its Disaster Recovery Assistance Files system of records to the records extracted and provided by SBA from its Disaster Loans Case Files system of records. The purpose of this process is to update DHS/FEMA applicant information with the status of SBA loan determinations. The records provided by SBA will be automatically imported into NEMIS-IA to update the status of existing applicant records. The records DHS/FEMA receives from SBA are of DHS/FEMA applicants who were referred to SBA for disaster loan assistance. Controls on the SBA export of data are in place to ensure that DHS/FEMA only receives unique and valid referral records.

b. SBA will provide to DHS/FEMA information and data, including but not limited to the following: personal information about SBA applicants, including name, damaged dwelling address, and SSN; application data; loss to personal property data; loss mitigation data; SBA loan data; and SBA event data. DHS/FEMA will conduct the match using FEMA Disaster Number and FEMA Registration ID number.

c. Loan data for matched records will be recorded and displayed in NEMIS-IA. Loan data will also be run through NEMIS-IA business rules; potentially duplicative categories of assistance are sent to FEMA's Program Review process for manual evaluation of any duplication of benefits. If FEMA review staff determines that there is a duplication of benefits, the duplicated amount is deducted from the e1igible award. FEMA applicants receive a letter (hardcopy or electronic) that indicates the amount of their eligible award and their ability to appeal.

SYSTEM OF RECORDS:

DHS/FEMA-008 Disaster Recovery Assistance Files (87 FR 7852, February 10, 2022) accesses records from its Disaster Recovery Assistance Files system of records, as provided by the DHS/FEMA—008 SORN, through its NEMIS-IA system, and matches them to the records that SBA provides from its SBA-20 Disaster Loans Case Files, 86 FR 64979 (November 19, 2021) system of records, as amended. SBA 20 Disaster Loans Case Files (86 FR 64979, November 19, 2021) uses its Disaster Lending System to access records from its Disaster Loan Case Files system of records and match them to the records that DHS/FEMA provides from its Disaster Recovery Assistance Files system of records.

Mason C. Clutter,
Chief Privacy Officer, Department of Homeland Security.

[FR Doc. 2024-01057 Filed 1-19-24; 8:45 am]

BILLING CODE 9110-9L-P